DEPARTMENT OF TRANSPORTATION

Federal Aviation Administration

RTCA Special Committee 135: Environmental Conditions and Test Procedures for Airborne Equipment

AGENCY: Federal Aviation Administration (FAA), DOT.

ACTION: Notice of RTCA Special Committee 135 meeting.

SUMMARY: The FAA is issuing this notice to advise the public of a meeting of RTCA Special Committee 135: Environmental Conditions and Test Procedures for Airborne Equipment.

DATES: The meeting will be held October 23-26, 2006 starting at 9 a.m.

ADDRESSES: The meeting will be held at RTCA, 1828 L Street, NW., Suite 805, Colson Board Room, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135 meeting. The agenda will include:

• October 23:

• All Day, Working Group—Section 21, Emission of Radio Frequency Energy.

• October 24:

• All Day, Working Group—Section 16, Power Input.

• All Day, Working Group—Section 21, Emission of Radio Frequency Energy.

• October 25-26.

• Opening Plenary Session (Welcome and Introductory Remarks).

• Approval of Summary from the Forty-Seventh Meeting.

• RTCA Paper No. 088-06/SC135-655.

• Chairman's Update.

• DO-160E Errata Paper is Published.

• Clarity Schedule (“substantial change deadline”).

• Review Results of EUROCAE ED-14 September Meeting.

• Review Status of Working Groups.

• Section 16, Power Input.

• Section 20, Radio Frequency Susceptibility (Radiated and Conducted).

• Section 21, Emission of Radio Frequency Energy.

• Review List of Change Proposals for all other Sections.

• Review Status of Draft of New Section 27, Toxic Fumes.

• Discuss Status/Progress of User Guide Information.

• Review Schedule to Release DO-160E.

• Closing Plenary Session (New/Unfinished Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 27, 2006.
Francisco Estrada C.,
RTCA Advisory Committee.

[FR Doc. 06-8460 Filed 10-2-06; 8:45 am]

BILLING CODE 4910-13-M